DEPARTMENT OF HOMELAND SECURITY

[Docket No. DHS-2009-0030]

Homeland Security Information Network Advisory Committee

ACTION: Committee Management; Notice of Federal Advisory Committee Meeting.

SUMMARY: The Homeland Security Information Network Advisory Committee (HSINAC) will meet from May 12-May 14, 2009, in Potomac, MD. The meeting will be open to the public.

DATES: The HSINAC will meet Tuesday, May 12, 2009, from 8 a.m. to 6 p.m., Wednesday, May 13, 2009 from 8 a.m. to 6 p.m. and on Thursday, May 14, 2009, from 8 a.m. to 1:30 p.m. Please note that the meeting may close early if the committee has completed its business.

ADDRESSES: The meeting will be held at the Bolger Center, 9600 Newbridge Drive, Potomac, MD 20854-4436. Send written material, comments, and requests to make oral presentations to Marc Kutnik, Department of Homeland Security, 245 Murray Lane, SW., Bldg. 410, Washington, DC 20528. Requests to make oral statements at the meeting should reach the contact person listed below by May 05, 2009. Requests to have a copy of your material distributed to each member of the committee prior to the meeting should reach the contact person at the address below by May 05, 2009. Questions and comments must be identified by DHS-2009-0030 and may be submitted by one of the following methods:

• Federal eRulemaking Portal: http://www.regulations.gov. Follow the instructions for submitting comments.

• E-mail: Marc.Kutnik@dhs.gov. Include the docket number, DHS-2009-0030 in the subject line of the message.

• Fax: 202-282-8806

• Mail: Marc Kutnik, Department of Homeland Security, 245 Murray Lane, SW., Building 410, Washington, DC 20528.

Instructions: All submissions received must include the words “Department of Homeland Security” and the docket number for this action. Comments received will be posted without alteration at http://www.regulations.gov, including any personal information provided.

Docket: For access to the docket to read background documents or comments received by the Homeland Security Information Network Advisory Committee, go to http://www.regulations.gov.

FOR FURTHER INFORMATION CONTACT: Marc Kutnik, 245 Murray Lane, SW., Bldg. 410, Washington, DC 20528, Marc.Kutnik@dhs.gov, 202-282-8336, fax 202-282-8806.

SUPPLEMENTARY INFORMATION: Notice of this meeting is given under the Federal Advisory Committee Act, 5 U.S.C. App. (Pub. L. 92-463). The mission of the Homeland Security Information Network Advisory Committee is to identify issues and provide independent advice and recommendations for the improvement of the Homeland Security Information Network (HSIN) to senior leadership of the Department, in particular the Director of Operations Coordination and Planning. The agenda for this meeting will include an update and discussion on efforts concerning the improvement of HSIN, discussions on federal, state, and local information sharing and portal consolidation, a briefing and discussion on the HSIN Mission Operators Committee and Business Case, and discussions pertaining to HSIN community best practices and the HSIN law enforcement and fire services communities.

Procedural

This meeting is open to the public. The chairperson of the Homeland Security Information Network Advisory Committee shall conduct the meeting in a way that will, in his judgment, facilitate the orderly conduct of business. Please note that the meeting may end early if all business is completed.

Participation in HSINAC deliberations is limited to committee members and Department of Homeland Security officials.

All visitors to Bolger Center will have to pre-register to be admitted to the building. Please provide your name, telephone number by close of business on May 05, 2009 to Marc Kutnik (202-282-8336) (Marc.Kutnik@dhs.gov). Seating may be limited and is available on a first-come, first-served basis.

Information on Services for Individuals With Disabilities

For information on facilities or services for individuals with disabilities or to request special assistance at the meeting, contact Marc Kutnik as soon as possible.

Dated: April 20, 2009.
Robert Cohen,
Deputy Director of Operations Coordination and Planning.

[FR Doc. E9-9431 Filed 4-23-09; 8:45 am]

BILLING CODE 4410-10-P